DEPARTMENT OF HEALTH AND HUMAN SERVICES

Centers for Medicare & Medicaid Services

[Document Identifier: CMS-10398 #37]

Medicaid and Children's Health Insurance Program (CHIP) Generic Information Collection Activities: Proposed Collection; Comment Request; Correction

AGENCY: Centers for Medicare & Medicaid Services, Health and Human Services (HHS).

ACTION: Notice; correction.

SUMMARY: On April 10, 2023, we published a collection of information notice in the Federal Register concerning our revised Managed Care Rate Setting Guidance. The notice included an incorrect web address for obtaining copies of the supporting statement, the revised guide, and supporting documents.

SUPPLEMENTARY INFORMATION:

Correction

In the Federal Register of April 10, 2023, in FR Doc. 2023-07473, on page 21191, in the third column, correct the fourth paragraph under the ADDRESSES caption to read as follows:

To obtain copies of a supporting statement and any related forms for the proposed collection(s) summarized in this notice, please access the CMS PRA website by copying and pasting the following web address into your web browser: https://www.cms.gov/regulations-and-guidance/legislation/paperworkreductionactof1995/pra-listing.

Dated: April 12, 2023.
William N. Parham, III,
Director, Paperwork Reduction Staff, Office of Strategic Operations and Regulatory Affairs.

[FR Doc. 2023-08062 Filed 4-14-23; 8:45 am]

BILLING CODE 4120-01-P